DEPARTMENT OF TRANSPORTATION

Federal Aviation Administration

14 CFR Part 71

[Docket No. FAA-2002-13524; Airspace Docket No. 02-AWP-07]

Proposed Revision of VOR Federal Airway V-257

AGENCY: Federal Aviation Administration, DOT.

ACTION: Notice of proposed rulemaking (NPRM); withdrawal.

SUMMARY: This action withdraws the notice of proposed rulemaking (NPRM) published in the Federal Register on November 7, 2002 (67 FR 67801). In that action, the FAA proposed to revise Federal Airway V-257 between the Phoenix, AZ, Very High Frequency Omni-directional Radio Range and Tactical Air Navigation Aids (VORTAC) and the Drake, AZ, VORTAC. The FAA has determined that withdrawal of the proposed rule is warranted since the proposed action would require the revision of numerous instrument procedures in the Phoenix area.

EFFECTIVE DATE: 0901 UTC, November 28, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION: On November 7, 2002, an NPRM was published in the Federal Register proposing to amend 14 Code of Federal Regulations (14 CFR) part 71 to revise Federal Airway V-257 between the Phoenix, AZ, Very High Frequency Omni-directional Radio Range and Tactical Air Navigation Aids (VORTAC) and the Drake, AZ, VORTAC (67 FR 67801). A review of airspace in the Phoenix area revealed that numerous procedures would need to be revised if the revision to Federal Airway V-257 proceeds, therefore the FAA has determined to withdraw the proposed action.

List of Subjects in 14 CFR Part 71

Airspace, Incorporation by reference, Navigation (air).

The Withdrawal

In consideration of the foregoing, the NPRM for FAA Docket No. FAA-2002-13524, Airspace Docket No. 02-AWP-07, as published in the Federal Register on November 7, 2002 (67 FR 67801), is hereby withdrawn.

Authority: 49 U.S.C. 106(g), 40103, 40113, 40120; E.O. 10854; 24 FR 9565, 3 CFR, 1959-1963 Comp., p. 389.

Issued in Washington, DC, on November 17, 2005.
Edith V. Parish,
Manager, Airspace and Rules.

[FR Doc. 05-23307 Filed 11-25-05; 8:45 am]

BILLING CODE 4910-13-P